NUCLEAR REGULATORY COMMISSION

[NRC-2010-0394]

Service Contracts Inventory

AGENCY: U.S. Nuclear Regulatory Commission.

ACTION: Notice of availability.

SUMMARY: The U.S. Nuclear Regulatory Commission (NRC) is providing for public information its Inventory of Contracts for Services for Fiscal Year (FY) 2010. The inventory includes service contract actions over $25,000 that were awarded in FY 2010.

ADDRESSES: You can access publicly available documents related to this document using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Inventory of Contracts for Services for FY 2010 can be accessed under ADAMS accession number ML103481209.

The inventory was published on the NRC Web site at the following location: http://www.nrc.gov/about-nrc/contracting.html.

FOR FURTHER INFORMATION CONTACT: Lori Konovitz, Office of Administration, Mail Stop TWB-01-B10M, U.S. Nuclear Regulatory Commission, Washington, DC 20555-0001, Telephone: 301-492-3627, or e-mail: lori.konovitz@nrc.gov.

SUPPLEMENTARY INFORMATION: In accordance with Section 743 of Division C of the FY 2010 Consolidated Appropriations Act, Public Law 111-117, the NRC is providing for public information its Inventory of Contracts for Services for FY 2010. The inventory includes service contract actions over $25,000 that were awarded in FY 2010. The inventory contains the following data:

1. A description of the services purchased;

2. The NRC office responsible for administering the contract;

3. The total dollar amount obligated for the services under the contract, and the funding source for the contract;

4. The contract type and date of the award;

5. The name of the contractor and place of performance;

6. Whether the contract is a personal services contract; and

7. Whether the contract was awarded on a non-competitive basis.

The NRC will analyze the data in the inventory for the purpose of determining if its contract labor is being used in an effective and appropriate manner and if the mix of Federal employees and contractors in the agency is effectively balanced. The NRC developed the inventory by pulling data from the Federal Procurement Data System—Next Generation. The inventory does not include contractor proprietary or sensitive information.

Dated at Rockville, Maryland, December 20, 2010.
For the Nuclear Regulatory Commission.
Virginia A. Huth,
Acting Director, Division of Contracts, Office of Administration.

[FR Doc. 2010-32828 Filed 12-28-10; 8:45 am]

BILLING CODE 7590-01-P